NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by July 7, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2009-006

1. Applicant: Wayne Z. Trivelpiece, Antarctic Ecosystem Research Division, Southwest Fisheries Science Center, 8604 La Jolla Shores Drive, La Jolla, CA 92037

Activity for Which Permit Is Requested

Take, Enter Antarctic Specially Protected Area (ASPA), and Import into the USA. The applicant plans to enter the ASPA located on the Western Shore of Admiralty Bay, King George Island (ASPA 129), and Lions Rump, King George Island (ASPA 151) to capture up to 1,000 chicks and 500 adult Adelie, Gentoo, Chinstrap penguins, Skuas, Sheathbill, Southern Petrel and Kelp Gull for banding, weighing, diet studies, collecting blood and gland oil samples, as well as attaching instruments (Txs, PTTs, TDRs). The collection of samples and instrument readings are a continuation of the study of the behavioral ecology and population biology of the Adelie, Gentoo and Chinstrap penguins and the interactions among these species and their principal avian predators: Skuas, sheathbills, and giant petrels. All captured animals will be released.

Location

Western Shore of Admiralty Bay, King George Island (ASPA 128) and Lions Rump, King George Island (ASPA 151).

Dates

October 1, 2008 to August 31, 2009.

Nadene G. Kennedy,
Permit Officer, Office of Polar Programs.

[FR Doc. E8-12409 Filed 6-3-08; 8:45 am]

BILLING CODE 7555-01-P